FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 1, 2006.

A. Federal Reserve Bank of San Francisco (Tracy Basinger, Director, Regional and Community Bank Group) 101 Market Street, San Francisco, California 94105-1579:

1. Brett D. Barker Bank Stock Fund, Devere E. Barker Bank Stock Fund, and Jeffrey Barker Bank Stock Fund, Sparks, Nevada; to acquire voting shares of The Bank Holdings, and thereby indirectly acquire Nevada Security Bank, both of Reno, Nevada.

Board of Governors of the Federal Reserve System, August 14, 2006.
Robert deV. Frierson,
Deputy Secretary of the Board.

[FR Doc. E6-13605 Filed 8-17-06; 8:45 am]

BILLING CODE 6210-01-S